DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Madison, (FEMA Docket No: B-7750) | City of Huntsville (06-04-BY84P) | September 21, 2007; September 28, 2007; Madison County Record | The Honorable Loretta Spencer, Mayor, City of Huntsville, P.O. Box 308, Huntsville, AL 35804 | October 1, 2007 | 010153
Madison, (FEMA Docket No: B-7750) | Unincorporated areas of Madison County (06-04-BY84P) | September 21, 2007; September 28, 2007; Madison County Record | The Honorable Mike Gillespie, Chairman, Madison County Commission, 6994 Courthouse 700, 100 North Side Square, Huntsville, AL 35801 | October 1, 2007 | 010151
Arizona: Coconino, (FEMA Docket No: B-7750) | Unincorporated areas of Coconino County (07-09-0172P) | September 13, 2007; September 20, 2007; Arizona Daily Sun | The Honorable Elizabeth Archuleta, Chairperson, Coconino County, Board of Commissioners, 2500 North Fort Valley Road, Building One, Flagstaff, AZ 86001 | September 27, 2007 | 040019
California:
Sacramento, (FEMA Docket No: B-7738) | Unincorporated areas of Sacramento County (06-09-B222P) | August 30, 2007; September 6, 2007; The Daily Recorder | The Honorable Don Nottoli, Chairman, Sacramento County, Board of Supervisors, 700 H Street, Suite 2450, Sacramento, CA 95814 | December 6, 2007 | 060262
San Joaquin, (FEMA Docket No: B-7750) | City of Lathrop (07-09-0844P) | September 20, 2007; September 27, 2007; The Record | The Honorable Apolinar Sangalang, Mayor, City of Lathrop, 16775 Howland Road, Suite One, Lathrop, CA 95330 | August 31, 2007 | 060738
Yuba, (FEMA Docket No: B-7750) | Unincorporated areas of Yuba County (07-09-1090P) | September 20, 2007; September 27, 2007; Marysville Appeal-Democrat | Mr. Robert Bendorf, County Administrator, Yuba County, 915 Eighth Street, Suite 115, Marysville, CA 95901 | August 31, 2007 | 060427
Colorado:
Boulder, (FEMA Docket No: B-7750) | City of Longmont (07-08-0506P) | September 6, 2007; September 13, 2007; The Daily Camera | The Honorable Julia Pirnack, Mayor, City of Longmont 864 Fourth Avenue, Longmont, CO 80501 | December 13, 2007 | 080027
Boulder, (FEMA Docket No: B-7750) | Unincorporated areas of Boulder County (07-08-0506P) | September 6, 2007; September 13, 2007; The Daily Camera | The Honorable Ben Pearlman, Chairman, Boulder County, Board of Commissioners, P.O. Box 471, Boulder, CO 80306 | December 13, 2007 | 080023
Delaware:
Kent, (FEMA Docket No: B-7738) | Unincorporated areas of Kent County (07-03-1056P) | August 22, 2007; August 29, 2007; Dover Post | The Honorable P. Brooks Banta, President, Kent County, Board of Commissioners, 555 Bay Road, Dover, DE 19901 | November 28, 2007 | 100001
New Castle, (FEMA Docket No: B-7738) | Unincorporated areas of New Castle County (07-03-0845P) | August 31, 2007, September 7, 2007, Newark Post | The Honorable Christopher Coons, County Executive, New Castle County, 87 Reads Way Corporate Commons, New Castle, DE 19801 | December 7, 2007 | 105085
Georgia:
Athens-Clarke, (FEMA Docket No: B-7754) | Unincorporated areas of Athens-Clarke County (07-04-1274P) | October 5, 2007; October 12, 2007; Athens Banner-Herald | The Honorable Heidi Davison, Mayor, Athens-Clarke County, 235 Wells Drive, Athens, GA 30606 | September 14, 2007 | 130040
Barrow, (FEMA Docket No: B-7750) | Unincorporated areas of Barrow County (07-04-2937P) | September 12, 2007; September 19, 2007; The Barrow County News | The Honorable Douglas H. Garrison, Chairman, Barrow County, Board of Commissioners, 233 East Broad Street, Winder, GA 30680 | December 19, 2007 | 130497
Bryan, (FEMA Docket No: B-7750) | City of Richmond Hill (07-04-5472P) | September 12, 2007; September 19, 2007; Bryan County News | The Honorable Richard R. Davis, Mayor, City of Richmond Hill, P.O. Box 250, Richmond Hill, GA 31324 | December 19, 2007 | 130018
Bryan, (FEMA Docket No: B-7750) | Unincorporated areas of Bryan County (07-04-5472P) | September 12, 2007; September 19, 2007; Bryan County news | The Honorable Jimmy Burnsed, Chairman, Bryan County, Board of Commissioners, 116 Lanier Street, Pembroke, GA 31321 | December 19, 2007 | 130016
Cherokee, (FEMA Docket No: B-7750) | Unincorporated areas of Cherokee County (07-04-3183P) | September 14, 2007; September 21, 2007; Cherokee Tribune | The Honorable Buzz Ahrens, Chairman, Cherokee County, Board of Commissioners, 90 North Street, Suite 310, Canton, GA 30114 | August 30, 2007 | 130424
Gwinnett, (FEMA Docket No: B-7750) | City of Sugar Hill (07-04-3458P) | September 20, 2007; September 27, 2007; Gwinnett Daily Post | The Honorable Gary Pirkle, Mayor, City of Sugar Hill, 4988 West Broad Street, Sugar Hill, GA 30518 | December 27, 2007 | 130474
Gwinnett, (FEMA Docket No: B-7750) | Unincorporated areas of Gwinnett County (07-04-3458P) | September 20, 2007; September 27, 2007; Gwinnett Daily Post | The Honorable Charles Bannister, Chairman, Gwinnett County, Board of Commissioners, 75 Langley Drive, Lawrenceville, GA 30045 | December 27, 2007 | 130322
Maine: Waldo, (FEMA Docket No: B-7754) | City of Belfast (07-01-0609P) | August 11, 2007; August 16, 2007; The Republican Journal | Mr. Terrence St. Peter, City Manager, City of Belfast, 131 Church Street, Belfast, ME 04915 | July 23, 2007 | 230129
Maryland:
Anne Arundel, (FEMA Docket No: B-7738) | Unincorporated areas of Anne Arundel County (07-03-0081P) | August 23, 2007; August 30, 2007; The Capital | The Honorable John R. Leopold, County Executive, Anne Arundel County, 44 Calvert Street, Annapolis, MD 21404 | November 29, 2007 | 240008
Carroll, (FEMA Docket No: B-7750) | Unincorporated areas of Carroll County (07-03-0510P) | September 13, 2007; September 20, 2007; Carroll County Times | Ms. Julia W. Gouge, President, Carroll County Board of Commissioners, Carroll County Office Building, 225 North Center Street, Westminster, MD 21157 | August 28, 2007 | 240015
Massachusetts:
Barnstable, (FEMA Docket No: B-7738) | Town of Falmouth (07-01-1028P) | August 23, 2007; August 30, 2007; Cape Cod Times | The Honorable Kevin Murphy, Chairman, Falmouth Board of Selectmen, Falmouth Town Hall, 59 Town Hall Square, Falmouth, MA 02540 | November 29, 2007 | 255211
Plymouth, (FEMA Docket No: B-7750) | Town of Hanover (07-01-0795P) | September 19, 2007; September 26, 2007; Hanover Mariner | The Honorable R. Alan Rugman, Chairman, Board of Selectmen, 550 Hanover Street, Hanover, MA 02339 | December 26, 2007 | 250266
Minnesota:
Polk, (FEMA Docket No: B-7750) | City of East Grand Forks (07-05-2270P) | September 29, 2007; October 3, 2007; The Exponent | The Honorable Lynn Stauss, Mayor, City of East Grand Forks, City Hall, 600 Demers Avenue, East Grand Forks MN 56721 | January 2, 2008 | 275236
Polk, (FEMA Docket No: B-7750) | Unincorporated areas of Polk County (07-05-2270P) | September 29, 2007; October 3, 2007; The Exponent | The Honorable Warren Affeldt, Chairman, Polk County, Board of Commissioners, 612 North Broadway, Suite 215, Crookston, MN 56716 | January 2, 2008 | 270503
Mississippi:
Rankin, (FEMA Docket No: B-7750) | City of Brandon (07-04-3666P) | September 12, 2007; September 19, 2007; Rankin County News | The Honorable Carlo Martella, Mayor, City of Brandon, P.O. Box 1539, Brandon, MS 39043 | August 24, 2007 | 280143
Rankin, (FEMA Docket No: B-7750) | City of Pearl (07-04-3666P) | September 12, 2007; September 19, 2007; Rankin County News | The Honorable Jimmy Foster, Mayor, City of Pearl, P.O. Box 5948, Pearl, MS 39288-5948 | August 24, 2007 | 280145
Rankin, (FEMA Docket No: B-7750) | Unincorporated areas of Rankin County (07-04-3666P) | September 12, 2007; September 19, 2007; Rankin County News | The Honorable Ken Martin, Chairman, Rankin County, Board of Supervisors, 211 East Government Street, Suite A, Brandon, MS 39042 | August 24, 2007 | 280142
Missouri:
Lincoln, (FEMA Docket No: B-7750) | Unincorporated areas of Lincoln County (06-07-BA52P) | August 22, 2007; August 29, 2007; The Troy Free Press | The Honorable Sean O'Brien, Presiding Commissioner, Lincoln County, Lincoln County Courthouse, 201 Main Street, Troy, MO 63379 | November 28, 2007 | 290869
St. Louis, (FEMA Docket No: B-7750) | City of Valley Park (07-07-1587P) | September 13, 2007; September 20, 2007; The St. Louis Daily Record | The Honorable Jeffery Whitteaker, Mayor, City of Valley Park, 320 Benton Street, Valley Park, MO 63088 | August 29, 2007 | 290391
Montana: Lincoln, (FEMA Docket No: B-7750) | Unincorporated areas of Lincoln County (07-08-0447P) | August 2, 2007; August 9, 2007; Tobacco Valley News | The Honorable Rita Windom, Chairwoman, Lincoln County, Board of Commissioners, 512 California Avenue, Libby, MT 59923 | July 10, 2007 | 300157
Nevada: Clark, (FEMA Docket No: B-7750) | Unincorporated areas of Clark County (06-09-BG37P) | September 6, 2007; September 13, 2007; Las Vegas Review-Journal | The Honorable Rory Reid, Chair, Clark County Board of Commissioners, 500 South Grand Central Parkway, Las Vegas, NV 89106 | December 13, 2007 | 320003
New Mexico: Bernalillo, (FEMA Docket No: B-7750) | City of Albuquerque (07-06-1449P) | October 4, 2007; October 11, 2007; The Albuquerque Journal | The Honorable Martin J. Chavez, Mayor, City of Albuquerque, P.O. Box 1293, Albuquerque, NM 87103 | September 18, 2007 | 350002
New York: Jefferson, (FEMA Docket No: B-7727) | Town of Pamelia (07-02-0466P) | June 21, 2007; June 28, 2007; Watertown Daily Times | The Honorable Lawrence Longway, Town Supervisor, Town of Pamelia, 25859 State Route 37, Watertown, New York 13601 | December 27, 2007 | 360346
Oklahoma:
Carter, (FEMA Docket No: B-7750) | City of Ardmore (07-06-0167P) | September 6, 2007; September 13, 2007; Daily Ardmoreite | The Honorable John Moore, Mayor, City of Ardmore, P.O. Box 249, Ardmore, OK 73402 | December 13, 2007 | 400031
Cleveland, (FEMA Docket No: B-7738) | City of Moore (07-06-1613P) | August 30, 2007; September 6, 2007; The Norman Transcript | The Honorable Glenn Lewis, Mayor, City of Moore, 301 North Broadway, Moore, OK 73160 | December 6, 2007 | 400044
Pennsylvania: York, (FEMA Docket No: B-7754) | Township of Dover (07-03-0878P) | September 13, 2007; September 20, 2007; The York Dispatch | The Honorable Shane Patterson, Chairman, Board of Supervisors, Dover Township Municipal Building, 2480 West Canal Road, Dover, PA 17315 | December 20, 2007 | 420920
Rhode Island: Providence, (FEMA Docket No: B-7750) | City of Cranston (07-01-0910P) | August 23, 2007; August 30, 2007; Cranston Herald | The Honorable Michael Napolitano, Mayor, City of Cranston, Cranston City Hall, 869 Park Avenue, Cranston, RI 02910 | July 31, 2007 | 445396
South Carolina: Aiken, (FEMA Docket No: B-7750) | City of North Augusta (07-04-2732P) | September 13, 2007; September 20, 2007; Aiken Standard | The Honorable Lark W. Jones, Mayor, City of North Augusta, P.O. Box 6400, North Augusta, SC 29861 | August 27, 2007 | 450007
Texas:
Austin, (FEMA Docket No: B-7750) | City of Sealy (07-06-2014P) | September 18, 2007; September 25, 2007; The Sealy News | The Honorable Russell L. Koym, Mayor, City of Sealy, P.O. Box 517, Sealy, TX 77474 | December 26, 2007 | 480017
Bexar, (FEMA Docket No: B-7738) | City of San Antonio (06-06-BF16P) | August 16, 2007; August 23, 2007; Daily Commercial Recorder | The Honorable Phil Hardberger, Mayor, City of San Antonio, P.O. Box 839966, San Antonio, TX 78283 | November 22, 2007 | 480045
Bexar, (FEMA Docket No: B-7750) | City of San Antonio (06-06-B105P) | September 13, 2007; September 20, 2007; Daily Commercial Recorder | The Honorable Phil Hardberger, Mayor, City of San Antonio, P.O. Box 839966, San Antonio, TX 78283 | August 30, 2007 | 480045
Bexar, (FEMA Docket No: B-7750) | City of San Antonio (07-06-0793P) | September 27, 2007; October 4, 2007; Daily Commercial Recorder | The Honorable Phil Hardberger, Mayor, City of San Antonio, P.O. Box 839966, San Antonio, TX 78283 | January 3, 2008 | 480045
Bexar, (FEMA Docket No: B-7738) | Unincorporated areas of Bexar County (06-06-BF16P) | August 16, 2007; August 23, 2007; Daily Commercial Recorder | The Honorable Nelson W. Wolff, Bexar County Judge, Bexar County Courthouse, 233 North Pecos, Suite 420, San Antonio, TX 78207 | November 22, 2007 | 480035
Brazos, (FEMA Docket No: B-7750) | City of Bryan (05-06-1677P) | September 6, 2007; September 13, 2007; The Eagle | The Honorable D. Mark Conlee, Mayor, City of Bryan, 300 South Texas Avenue, Bryan, TX 77803 | December 13, 2007 | 480082
Brazos, (FEMA Docket No: B-7750) | Unincorporated areas of Brazos County (05-06-1677P) | September 6, 2007; September 13, 2007; The Eagle | The Honorable Randy Sims, Brazos County Judge, 300 East 26th Street, Suite 114, Bryan, TX 77803 | December 13, 2007 | 481195
Collin, (FEMA Docket No: B-7738) | City of Allen (06-06-BK36P) | August 23, 2007; August 30, 2007; The Allen American | The Honorable Stephen Terrell, Mayor, City of Allen, 305 Century Parkway, Allen, TX 75013 | November 29, 2007 | 480131
Collin, (FEMA Docket No: B-7750) | City of Allen (07-06-0941P) | August 30, 2007; September 6, 2007; The Allen American | The Honorable Stephen Terrell, Mayor, City of Allen, 305 Century Parkway, Allen, TX 75013 | August 16, 2007 | 480131
Collin, (FEMA Docket No: B-7750) | City of Anna (07-06-1349P) | September 13, 2007; September 20, 2007; McKinney Courier-Gazette | The Honorable Kenneth Pelham, Mayor, City of Anna, P.O. Box 776, Anna, TX 75409 | December 20, 2007 | 480132
Dallas, (FEMA Docket No: B-7750) | City of Irving (06-06-BA90P) | September 20, 2007; September 27, 2007; Dallas Morning News | The Honorable Herbert A. Gears, Mayor, City of Irving, 825 West Irving Boulevard, Irving, TX 75060 | December 27, 2007 | 480180
El Paso, (FEMA Docket No: B-7738) | City of El Paso (06-06-B807P) | August 23, 2007; August 30, 2007; El Paso Times | The Honorable John Cook, Mayor, City of El Paso, City Hall, 10th Floor, Two Civic Center Plaza, El Paso, TX 79901 | August 6, 2007 | 480214
Harris, (FEMA Docket No: B-7750) | Unincorporated areas of Harris County (07-06-1673P) | September 20, 2007; September 27, 2007; Houston Chronicle | The Honorable Ed Emmett, Harris County Judge, 1001 Preston, Suite 911, Houston, TX 77002 | December 27, 2007 | 480287
Parker, (FEMA Docket No: B-7738) | Town of Annetta North (07-06-0630P) | August 23, 2007; August 30, 2007; Weatherford Democrat | The Honorable Ken Hall, Mayor, Town of Annetta North, P.O. Box 1238, Aledo, TX 76008 | November 29, 2007 | 481664
Parker, (FEMA Docket No: B-7738) | Unincorporated areas of Parker County (07-06-0630P) | August 23, 2007; August 30, 2007; Weatherford Democrat | The Honorable Mark Riley, Parker County Judge, Parker County Courthouse, One Courthouse Square, Weatherford, TX 76086 | November 29, 2007 | 480520
Tarrant, (FEMA Docket No: B-7750) | City of Fort Worth (07-06-0876P) | September 13, 2007; September 20, 2007; Fort Worth Star-Telegram | The Honorable Mike J. Moncrief, Mayor, City of Fort Worth, 1000 Throckmorton Street, Fort Worth, TX 76102 | December 20, 2007 | 480596
Virginia: Chesterfield, (FEMA Docket No: B-7750) | Unincorporated areas of Chesterfield County (07-03-1156P) | September 20, 2007; September 27, 2007; Richmond Times-Dispatch | The Honorable Kelly E. Miller, Chairman, Chesterfield County, Board of Supervisors, P.O. Box 40, Chesterfield, VA 23832-0040 | December 27, 2007 | 510035
Wisconsin:
Waukesha, (FEMA Docket No: B-7750) | Village of Dousman (06-05-B016P) | September 27, 2007; October 4, 2007; The Freeman | The Honorable Jack Nissen, Village President, Village of Dousman, 118 South Main Street, Dousman, WI 53118 | January 3, 2008 | 550480
Waukesha, (FEMA Docket No: B-7750) | Unincorporated areas of Waukesha County (06-05-B016P) | September 27, 2007; October 4, 2007; The Freeman | The Honorable Daniel Vrakas, County Executive, Waukesha County, 1320 Pewaukee Road, Room 320, Waukesha, WI 53188 | January 3, 2008 | 550476

(Catalog of Federal Domestic Assistance No. 97.022, “Flood Insurance.”)

Dated: February 20, 2008.
David I. Maurstad,
Federal Insurance Administrator of the National Flood Insurance Program, Department of Homeland Security, Federal Emergency Management Agency.

[FR Doc. E8-4722 Filed 3-7-08; 8:45 am]

BILLING CODE 9110-12-P